DEPARTMENT OF HEALTH AND HUMAN SERVICES

National Institutes of Health

National Institute on Minority Health and Health Disparities; Cancellation of Meeting

Notice is hereby given of a change in the meeting of the National Institute on Minority Health and Health Disparities, March 27, 2026, 9:30 a.m. to 4:30 p.m., National Institutes of Health, 6707 Democracy Boulevard, Bethesda, MD, 20892 which was published in the Federal Register on December 29, 2025, FR Doc 2025-23889, 90 FR 60733.

This meeting notice is to cancel the meeting scheduled for March 27, 2026.

This meeting will not be rescheduled.

Dated: February 11, 2026.
David W. Freeman,
Supervisory Program Analyst, Office of Federal Advisory Committee Policy.

[FR Doc. 2026-03030 Filed 2-13-26; 8:45 am]

BILLING CODE 4140-01-P